DEPARTMENT OF ENERGY

Federal Energy Regulatory Commission

[Project No. 2680-113]

Consumers Energy Company, DTE Electric Company; Notice of Settlement Agreement and Soliciting Comments

Take notice that the following settlement agreement has been filed with the Commission and is available for public inspection.

a. Type of Application: Fish Entrainment Settlement Agreement.

b. Project No.: 2680-113.

c. Date filed: November 13, 2017.

d. Applicants: Consumers Energy Company and DTE Electric Company.

e. Name of Project: Ludington Pumped Storage Project.

f. Location: The existing project is located on the east shore of Lake Michigan in the townships of Pere Marquette and Summit, Mason County, Michigan and in Port Sheldon, Ottawa County, Michigan. The Ottawa County portion of the project is a 1.8-acre satellite recreation site, located about 70 miles south of the project. The project does not affect federal lands.

g. Filed Pursuant to: Rule 602 of the Commission's Rules of Practice and Procedure, 18 CFR 385.602.

h. Applicant Contact: David McIntosh, Consumers Energy Company, Hydro and Renewable Generation, 330 Chestnut Street, Cadillac, MI 49601; Telephone (231) 779-5506, email—David.McIntosh@cmsenergy.com.

i. FERC Contact: Aaron Liberty, (202) 502-6862 or aaron.liberty@ferc.gov.

j. Deadline for filing comments: Comments are due within 20 days of the notice. Reply comments due within 30 days of the notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2680-113.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Consumers Energy Company and DTE Electric Company (Consumers and DTE Companies) filed a fish entrainment settlement agreement (settlement agreement) on behalf of Consumers and DTE Companies; Attorney General for the State of Michigan; Michigan Department of Natural Resources; United States Department of Interior, on behalf of the United States Fish and Wildlife Service and as Trustee for Indian tribes, bands, or communities with reserved treaty rights in the Michigan waters of Lake Michigan; Grand Traverse Band of Ottawa and Chippewa Indians; Little River Band of Ottawa Indians; Little Traverse Bay Bands of Odawa Indians; Michigan United Conservation Clubs; and National Wildlife Federation. The purpose of the settlement agreement is to resolve among the signatories all issues associated with issuance of a new license for the project regarding fish entrainment. The signatories request that the Commission approve and incorporate into any new license that may be issued for the project the relevant portions of the settlement agreement as described in Section V.H. Included in the settlement agreement is a request from the signatories for a 50-year license term.

l. A copy of the settlement agreement is available for review at the Commission in the Public Reference Room or may be viewed on the Commission's Web site at http://www.ferc.gov using the eLibrary link. Enter the docket number excluding the last three digits in the docket number field to access the document. For assistance, contact FERC Online Support. Copies of the settlement agreement are also available for inspection and reproduction at the address in item h above and the following addresses: (1) DTE Electric Company, One Energy Plaza, Detroit, MI 48226, and (2) Mason County District Library, 217 East Ludington Ave, Ludington, Michigan 49431.

You may also register online at http://www.ferc.gov/docs-filing/esubscription.asp to be notified via email of new filings and issuances related to this or other pending projects. For assistance, contact FERC Online Support.

Dated: November 14, 2017.
Kimberly D. Bose,
Secretary.

[FR Doc. 2017-25090 Filed 11-17-17; 8:45 am]

BILLING CODE 6717-01-P